DEPARTMENT OF COMMERCE

International Trade Administration

[A-201-805]

Circular Welded Non-Alloy Steel Pipe From Mexico: Rescission of Antidumping Duty Administrative Review

AGENCY: Import Administration, International Trade Administration, Department of Commerce.

SUMMARY: In response to requests from Mueller Comercial de Mexico, S. de R.L. de C.V (“Mueller”), a Mexican manufacturer of circular welded non-alloy steel pipe, and Southland Pipe Nipples Co., Inc. (“Southland”), an interested party, the Department of Commerce (“the Department”) initiated an administrative review of the antidumping duty order on circular welded non-alloy steel pipe from Mexico. See Initiation of Antidumping and Countervailing Duty Administrative Reviews, 71 FR 77720 (December 27, 2006). This administrative review covered the period November 1, 2005, through October 31, 2006. We are now rescinding this review due to requests by parties to withdraw from the review.

EFFECTIVE DATE: February 12, 2007.

FOR FURTHER INFORMATION CONTACT: John Drury or Stephen Bailey, AD/CVD Operations, Office 7, Import Administration, International Trade Administration, U.S. Department of Commerce, 14th Street and Constitution Avenue, NW, Room 7866, Washington, DC 20230; telephone: (202) 482-0195 or (202) 482-0193, respectively.

SUPPLEMENTARY INFORMATION:

Background

The Department published an antidumping duty order on circular welded non-alloy steel pipe from Mexico on November 2, 1992. See Notice of Antidumping Duty Orders: Certain Circular Welded Non-Alloy Steel Pipe from Brazil, the Republic of Korea (“Korea”), Mexico, and Venezuela and Amendment to Final Determination of Sales at Less Than Fair Value: Certain Welded Non-Alloy Steel Pipe from Korea, 57 FR 49453 (November 2, 1992). The Department published a notice of “Opportunity to Request an Administrative Review” of the antidumping duty order for the period November 1, 2005, through October 31, 2006, on November 1, 2006. See 71 FR 64240. Respondents Hylsa S.A. de C.V. (“Hylsa”), Mueller, and interested party Southland requested that the Department conduct an administrative review of the antidumping duty order on circular welded non-alloy steel pipe and tube from Mexico on November 30, 2006. Hylsa withdrew its request for review on December 20, 2006. In response to the requests from Mueller and Southland, the Department published the initiation of the antidumping duty administrative review on circular welded non-alloy steel pipe from Mexico on December 27, 2005. See 70 FR 77720. The Department received requests for withdrawal from the administrative review from Mueller and Southland on December 29, 2006.

Rescission of the Administrative Review

Pursuant to 19 CFR 351.213(d)(1), the Secretary will rescind an administrative review under this section, in whole or in part, if a party that requested a review withdraws the request within 90 days of the date of publication of notice of initiation of the requested review. See 19 CFR 351.213(d)(1). Mueller, Southland and Hylsa have withdrawn their requests in a timely manner. Therefore, we are rescinding this review. The Department intends to issue assessment instructions to U.S. Customs and Border Protection 41 days after the date of publication of this rescission of administrative review. See section 356.8(a) of the Department's regulations.

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of an APO is a sanctionable violation.

This notice is published in accordance with sections 751(a)(1) and 777(i)(1) of the Tariff Act of 1930, as amended, and 19 CFR 351.213(d)(4).

Dated: February 6, 2007.
Stephen J. Claeys,
Deputy Assistant Secretary for Import Administration.

[FR Doc. E7-2348 Filed 2-9-07; 8:45 am]

BILLING CODE 3510-DS-S